DEPARTMENT OF ENERGY

Federal Energy Regulatory Commission

Combined Notice of Filings #2

Take notice that the Commission received the following electric corporate filings:

Docket Numbers: EC14-78-003.

Applicants: NRG Energy, Inc.

Description: Request for Amended Blanket Authorization of NRG Energy, Inc., et al.

Filed Date: 9/6/16.

Accession Number: 20160906-5429.

Comments Due: 5 p.m. ET 9/27/16.

Take notice that the Commission received the following exempt wholesale generator filings:

Docket Numbers: EG16-146-000.

Applicants: Indeck Niles, LLC.

Description: Self-Certification of exempt wholesale generator (“EWG”) status of Indeck Niles, LLC.

Filed Date: 9/7/16.

Accession Number: 20160907-5110.

Comments Due: 5 p.m. ET 9/28/16.

Take notice that the Commission received the following electric rate filings:

Docket Numbers: ER10-2331-058; ER10-2319-049; ER10-2317-049; ER13-1351-031; ER10-2330-056.

Applicants: J.P. Morgan Ventures Energy Corporation, BE Alabama LLC, BE CA LLC, Florida Power Development LLC, Utility Contract Funding, L.L.C.

Description: Notice of Non-Material Change in Status of the J.P. Morgan Sellers.

Filed Date: 9/6/16.

Accession Number: 20160906-5434.

Comments Due: 5 p.m. ET 9/27/16.

Docket Numbers: ER15-1706-004.

Applicants: Newark Energy Center, LLC.

Description: Compliance filing: Errata re Settlement Compliance Filing re EL15-97 et al to be effective 9/21/2015.

Filed Date: 9/7/16.

Accession Number: 20160907-5059.

Comments Due: 5 p.m. ET 9/28/16.

Docket Numbers: ER15-2631-004.

Applicants: Odell Wind Farm, LLC.

Description: Notice of Non-Material Change in Status of Odell Wind Farm, LLC.

Filed Date: 9/6/16.

Accession Number: 20160906-5430.

Comments Due: 5 p.m. ET 9/27/16.

Docket Numbers: ER16-915-001.

Applicants: Comanche Solar PV, LLC.

Description: Notice of Non-Material Change in Status of Comanche Solar PV, LLC.

Filed Date: 9/6/16.

Accession Number: 20160906-5433.

Comments Due: 5 p.m. ET 9/27/16.

Docket Numbers: ER16-1718-001.

Applicants: Tesoro Refining & Marketing Company LLC.

Description: Market-Based Triennial Review Filing: Tesoro Amended Triennial Review Filing to be effective N/A.

Filed Date: 9/7/16.

Accession Number: 20160907-5088.

Comments Due: 5 p.m. ET 11/7/16.

Docket Numbers: ER16-2360-000.

Applicants: Great Western Wind Energy, LLC.

Description: Supplement to August 2, 2016 Great Western Wind Energy, LLC tariff under ER16-2360.

Filed Date: 9/6/16.

Accession Number: 20160906-5439.

Comments Due: 5 p.m. ET 9/20/16.

Docket Numbers: ER16-2557-000.

Applicants: Southwest Power Pool, Inc.

Description: § 205(d) Rate Filing: 1139R2 Southwestern Public Service Company NITSA NOA Notice of Cancellation to be effective 2/1/2016.

Filed Date: 9/7/16.

Accession Number: 20160907-5062.

Comments Due: 5 p.m. ET 9/28/16.

Docket Numbers: ER16-2558-000.

Applicants: Pacific Gas and Electric Company.

Description: § 205(d) Rate Filing: E&P Agreements for Alamo Springs Solar 1 and 2 to be effective 9/8/2016.

Filed Date: 9/7/16.

Accession Number: 20160907-5123.

Comments Due: 5 p.m. ET 9/28/16.

Docket Numbers: ER16-2559-000.

Applicants: PJM Interconnection, L.L.C.

Description: § 205(d) Rate Filing: Queue Position Z2-089/AA2-099, Original Service Agreement No. 4525 to be effective 8/8/2016.

Filed Date: 9/7/16.

Accession Number: 20160907-5177.

Comments Due: 5 p.m. ET 9/28/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 7, 2016.
Nathaniel J. Davis, Sr.,
Deputy Secretary.

[FR Doc. 2016-22041 Filed 9-13-16; 8:45 am]

BILLING CODE 6717-01-P